DEPARTMENT OF COMMERCE

International Trade Administration

Notice of Scope Rulings

AGENCY: Import Administration, International Trade Administration, Department of Commerce.

DATES: Effective Date: May 31, 2011.

SUMMARY: The Department of Commerce (“Department”) hereby publishes a list of scope rulings completed between October 1, 2010, and December 31, 2010. In conjunction with this list, the Department is also publishing a list of requests for scope rulings and anticircumvention determinations pending as of December 31, 2010. We intend to publish future lists after the close of the next calendar quarter.

FOR FURTHER INFORMATION CONTACT: Julia Hancock, AD/CVD Operations, China/NME Group, Import Administration, International Trade Administration, U.S. Department of Commerce, 14th Street and Constitution Avenue, NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on February 25, 2011. See Notice of Scope Rulings, 76 FR 10558 (February 25, 2011). This current notice covers all scope rulings and anticircumvention determinations completed by Import Administration between October 1, 2010, and December 31, 2010, inclusive, and it also lists any scope or anticircumvention inquiries pending as of December 31, 2010. As described below, subsequent lists will follow after the close of each calendar quarter.

Scope Rulings Completed Between October 1, 2010, and December 31, 2010

People's Republic of China

A-570-501: Natural Bristle Paint Brushes and Brush Heads from the People's Republic of China.

Requestor: A. Richard Tools Company; its two brushes made from Tampico vegetable fibers are not within the scope of the antidumping duty order; October 15, 2010.

A-570-886: Polyethylene Retail Carrier Bags from the People's Republic of China.

Requestor: The St. John Companies; four models of patient-belongings bags are not within the scope of antidumping duty order; October 1, 2010.

A-570-890: Wooden Bedroom Furniture from the People's Republic of China.

Requestor: Target Corporation; its kid's accent table is not within the scope of the antidumping duty order; November 1, 2010.

A-570-890: Wooden Bedroom Furniture from the People's Republic of China.

Requestor: Legacy Classic Furniture; its heritage court bench is within the scope of the antidumping duty order; November 22, 2010.

A-570-890: Wooden Bedroom Furniture from the People's Republic of China.

Requestor: Emerald Home Furnishings; its granite and wood vanity are not within the scope of the antidumping duty order; December 20, 2010.

A-570-890: Wooden Bedroom Furniture from the People's Republic of China.

Requestor: Delta Enterprise Corporation; its crib and changing table combo collection is not within the scope of the antidumping duty order; December 21, 2010.

A-570-909: Certain Steel Nails from the People's Republic of China.

Requestor: Mazel & Co., Inc.; its roofing nails falling within certain ASTM standard gaps are within the scope of the antidumping duty order; December 22, 2010.

Italy

A-475-801: Ball Bearings and Parts Thereof from Italy.

Requestor: Caterpillar, Inc.; turntable slewing rings used in hydraulic excavators (part numbers 1855622 and 1885072) manufactured by SKF RIV-SKF Officine di Villar Perosa S.p.A., SKF Industrie S.p.A., OMVP S.p.A., and Somecat S.p.A. (collectively “SKF Italy”) are not within the scope of the antidumping duty order; October 21, 2010.

Taiwan

A-583-837: Polyethylene Terephthalate (PET) Film, Sheet, and Strip from Taiwan.

Requestors: Nan Ya Plastics Corporation, Ltd. and Hop Industries Corporation; Amorphous PET Film that is not biaxially-oriented is not within the scope of the antidumping duty order; December 22, 2010.

Multiple Countries

A-570-952/C-570-953/A-583-844: Narrow Woven Ribbons with Woven Selvedge from the People's Republic of China and Taiwan.

Requestor: A-Plus Products Inc.; certain narrow woven textile material is within the scope of the antidumping and countervailing duty orders; November 19, 2010.

A-570-952/C-570-953/A-583-844: Narrow Woven Ribbons with Woven Selvedge from the People's Republic of China and Taiwan.

Requestor: Money Hill Co., Ltd. c/o Party Art Enterprise Co. Ltd., and Golden Art Co., Ltd.; its cut-edge ribbon, to the extent it matches the exclusion language in the scope of the orders, is not within the scope of the antidumping and countervailing duty orders; November 24, 2010.

Anticircumvention Determinations Completed Between October 1, 2010, and December 31, 2010:

None.

Scope Inquiries Terminated Between October 1, 2010, and December 31, 2010

A-570-806: Silicon Metal from the People's Republic of China.

Requestor: Globe Metallurgical Inc.; whether silicon metal exported by Ferro-Alliages et Mineraux Inc. to the United States from Canada is within the scope of the antidumping duty order; requested September 30, 2008; initiated February 10, 2009; preliminary rescission ruling August 11, 2010; final rescission ruling November 29, 2010.

Anticircumvention Inquiries Terminated Between October 1, 2010, and December 31, 2010:

None.

Scope Inquiries Pending as of December 31, 2010

People's Republic of China

A-570-504: Petroleum Wax Candles from the People's Republic of China.

Requestor: Trade Associates Group, Ltd.; whether its candles (multiple designs) are within the scope of the antidumping duty order; requested June 11, 2009.

A-570-504: Petroleum Wax Candles from the People's Republic of China.

Requestor: Sourcing International, LLC; whether its flower candles are within the scope of the antidumping duty order; requested June 24, 2009.

A-570-504: Petroleum Wax Candles from the People's Republic of China.

Requestor: Sourcing International; whether its candles (multiple designs) are within the scope of the antidumping duty order; requested July 28, 2009.

A-570-504: Petroleum Wax Candles from the People's Republic of China.

Requestor: Sourcing International; whether its floral bouquet candles are within the scope of the antidumping duty order; requested August 25, 2009.

A-570-504: Petroleum Wax Candles from the People's Republic of China.

Requestor: Candym Enterprises Ltd.; whether its vegetable candles are within the scope of the antidumping duty order; requested November 9, 2009.

A-570-601: Tapered Roller Bearings from the People's Republic of China.

Requestor: Blackstone OTR LLC and OTR Wheel Engineering, Inc.; whether certain wheel hub units are within the scope of the antidumping duty order; requested March 3, 2010; initiated June 15, 2010.

A-570-601: Tapered Roller Bearings from the People's Republic of China.

Requestor: New Trend Engineering Limited; whether certain wheel hub units are within the scope of the antidumping duty order; requested March 5, 2010; initiated June 15, 2010; preliminary ruling December 13, 2010.

A-570-601: Tapered Roller Bearings from the People's Republic of China.

Requestor: Bosda International (USA) LLC and Kingdom Auto Parts Ltd.; whether certain wheel hub units are within the scope of the antidumping duty order; requested October 28, 2010.

A-570-890: Wooden Bedroom Furniture from the People's Republic of China.

Requestor: Stork Craft Manufacturing; whether its infant (baby) Aspen and Lennox changing tables are within the scope of the antidumping duty order; initiated August 20, 2010; preliminary ruling December 13, 2010.

A-570-891: Hand Trucks from the People's Republic of China.

Requestor: Bond Street; whether the slide flat cart is within the scope of the antidumping duty order; requested December 8, 2006.

A-570-891: Hand Trucks from the People's Republic of China.

Requestor: WelCom Products; whether its MC2 Magna Cart, MCI Magna Cart and MCK Magna Cart are within the scope of the antidumping duty order; requested December 10, 2010.

A-570-912: Certain New Pneumatic Off-the-Road Tires from the People's Republic of China.

Requestor: Wide Open Cycles Inc.; whether custom-built, size 14.9-24, pneumatic off-the-road mud racing tires built exclusively for all terrain vehicles are within the scope of the antidumping duty order; requested December 9, 2010.

A-570-929: Small Diameter Graphite Electrodes from the People's Republic of China.

Requestor: SGL Carbon LLC and Superior Graphite Co.; whether unfinished small diameter graphite electrodes produced in the People's Republic of China (“PRC”) and completed and assembled in the United Kingdom are within the scope of the antidumping duty order; requested October 12, 2010, request amended November 30, 2010.

A-570-922/C-570-923: Raw Flexible Magnets from the People's Republic of China.

Requestor: InterDesign; whether its raw flexible magnets are within the scope of the antidumping duty and countervailing duty orders; requested March 26, 2010; initiated May 18, 2010.

A-570-922/C-570-923: Raw Flexible Magnets from the People's Republic of China.

Requestor: Medical Action Industries, Inc.; whether its raw flexible magnets and a surgical instrument drape are within the scope of the antidumping duty and countervailing duty orders; requested June 14, 2010; initiated September 13, 2010.

A-570-937/C-570-938: Citric Acid and Certain Citrate Salts from the People's Republic of China.

Requestor: Global Commodity Group LLC; whether its blends of citric acid and blends of citrate salts are within the scope of the antidumping duty and countervailing duty orders; requested August 9, 2010.

A-570-943/C-570-944: Oil Country Tubular Goods from the People's Republic of China.

Requestor: TMK IPSCO; whether all green tubes are within the scope of the antidumping duty order; requested September 30, 2010.

Multiple Countries

A-533-838/C-533-839/A-570-892: Carbazole Violet Pigment 23 from India and the People's Republic of China.

Requestor: Nation Ford Chemical Co., and Sun Chemical Corp.; whether finished carbazole violet pigment exported from Japan is within the scope of the antidumping duty and countervailing duty orders; requested February 23, 2010.

Anticircumvention Rulings Pending as of December 31, 2010:

A-570-836: Glycine from the People's Republic of China.

Requestor: Geo Specialty Chemicals, Inc. and Chattem Chemicals, Inc.; whether glycine from the PRC, when processed and re-packaged in India and exported as Indian-origin glycine, is circumventing the antidumping duty order; requested December 18, 2009; initiated October 28, 2010.

A-570-849: Certain Cut-to-Length Carbon Steel from the People's Republic of China.

Requestor: ArcelorMittal USA, Inc.; Nucor Corporation; SSAB N.A.D., Evraz Claymont Steel and Evraz Oregon Steel Mills; whether certain cut-to-length carbon steel plate from the PRC that contains a small level of boron, involves such a minor alteration to the merchandise that is so insignificant that the plate is circumventing the antidumping duty order; requested February 17, 2010; initiated April 16, 2010.

A-570-894: Certain Tissue Paper Products from the People's Republic of China.

Requestor: Seaman Paper Company of Massachusetts, Inc.; whether certain imports of tissue paper from the Socialist Republic of Vietnam (“Vietnam”) are circumventing the antidumping duty order through means of third country assembly or completion; requested February 18, 2010; initiated April 5, 2010.

A-570-918: Steel Wire Garment Hangers from the People's Republic of China.

Requestor: M&B Metal Products Inc.; whether certain imports of steel wire garment hangers from Vietnam are circumventing the antidumping duty order through means of third country assembly or completion of merchandise imported from the PRC; requested May 5, 2010; initiated July 22, 2010.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: April 25, 2011.
Christian Marsh,
Deputy Assistant Secretary for Antidumping and Countervailing Duty Operations.

[FR Doc. 2011-13385 Filed 5-27-11; 8:45 am]

BILLING CODE 3510-DS-P